DEPARTMENT OF COMMERCE

International Trade Administration

United States Mexico Canada Agreement (USMCA), Article 10.12; Binational Panel Review: Notice of Completion of Panel Review

AGENCY: United States Section, USMCA Secretariat, International Trade Administration, Department of Commerce.

ACTION: Notice of completion of panel review in the matter of Large Diameter Welded Pipe from Canada: Final Results of the Antidumping Duty Administrative Review and Final Determination of No Shipments; 2018-2020 (Secretariat File Number USA-CDA-2022-10.12-01).

SUMMARY: On December 9, 2022, the USMCA Secretariat received a Consent Motion to Terminate Panel Review from Hogan Lovells US LLC on behalf of Evraz Inc. NA in the above-mentioned dispute. As a result, and pursuant to Rule 75(2) of the USMCA Rules of Procedure for Article 10.12 (Binational Panel Review), the USMCA dispute USA-CDA-2022-10.12-01 has been terminated effective December 9, 2022.

FOR FURTHER INFORMATION CONTACT: Vidya Desai, United States Secretary, USMCA Secretariat, Room 2061, 1401 Constitution Avenue NW, Washington, DC 20230, 202-482-5438.

SUPPLEMENTARY INFORMATION: Article 10.12 of the USMCA establishes a mechanism to provide an alternative to judicial review by domestic courts of final determinations in antidumping and countervailing duty cases, with review by independent binational panels. A Panel is established when a Request for Panel Review is filed with the Secretariat by an industry asking for a review of an investigating authority's decision involving imports from a Party to the Agreement. For the complete USMCA Rules of Procedure for Article 10.12 (Binational Panel Reviews), please see https://can-mex-usa-sec.org/secretariat/agreement-accord-acuerdo/usmca-aceum-tmec/rules-regles-reglas/article-article-articulo_10_12.aspx?lang=eng.

Dated: December 14, 2022.
Julie Geiger,
International Trade Specialist, USMCA Secretariat.

[FR Doc. 2022-27435 Filed 12-16-22; 8:45 am]

BILLING CODE 3510-GT-P